ENVIRONMENTAL PROTECTION AGENCY

40 CFR Part 52

[EPA-R05-OAR-2022-0728; FRL-10255-01-R5]

Air Plan Approval; Michigan; Part 4 Rule

AGENCY: Environmental Protection Agency (EPA).

ACTION: Proposed rule.

SUMMARY: The Environmental Protection Agency (EPA) is proposing to approve a revision to Michigan's State Implementation Plan (SIP). On August 17, 2022, The Michigan Department of Environment, Great Lakes, and Energy (EGLE) submitted changes to Michigan's Air Pollution Control Rules, Emissions Limitations and Prohibitions—Sulfur Bearing Compounds. The revision includes administrative changes to existing rules, updates material adopted by reference, and removes a definition.

DATES: Comments must be received on or before February 13, 2023.

ADDRESSES: Submit your comments, identified by Docket ID No. EPA-R05-OAR-2022-0728 at https://www.regulations.gov, or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www2.epa.gov/dockets/commenting-epa-dockets.

FOR FURTHER INFORMATION CONTACT: Charles Hatten, Environmental Engineer, Control Strategies Section, Air Programs Branch (AR18J), Environmental Protection Agency, Region 5, 77 West Jackson Boulevard, Chicago, Illinois 60604, (312) 886-6031, hatten.charles@epa.gov. The EPA Region 5 office is open from 8:30 a.m. to 4:30 p.m., Monday through Friday, excluding Federal holidays and facility closures due to COVID-19.

SUPPLEMENTARY INFORMATION: Throughout this document whenever “we,” “us,” or “our” is used, we mean EPA.

I. What did Michigan submit?

On August 17, 2022, Michigan EGLE submitted revisions to Michigan's Air Pollution Control Rules in Part 4. Specifically, the state requested EPA to act on the following revisions to Part 4: R336.1401a (Rule 401a)—“Definitions”; R336.1401 (Rule 401)—“Emission of sulfur dioxide from power plants”; R336.1402 (Rule 402)—“Emission of SO2 from fuel-burning equipment at a stationary source other than power plants”; and R336.1404 (Rule 404)—“Emission of SO2 and sulfuric acid mist from sulfuric acid plants”.

Michigan EGLE provided the public an opportunity to comment on Part 4 revisions during a 30-day public comment period beginning on June 15, 2019, and at a public hearing held on July 1, 2019. No comments were received.

II. What is EPA's analysis of Michigan's submission?

In existing rules 401, 402, and 404, there are three citations to the American Society for Testing and Material standards (ASTM) and compliance test methods in 40 CFR part 60, adopted by reference in R336.1802a and R336.2004(1)(l), respectively. To achieve consistency between the SIP and Michigan's rules, Michigan EGLE has consolidated all adoption by reference material in Michigan's Air Pollution Control Rule in Chapter 336, Part 9, R336.1902, “Adoption of standards by reference”. Thus, for rules 401, 402, and 404, EGLE revised the location of material adopted by reference to be addressed in R336.1902.

The existing rule 401a currently includes a definition for the term “used oil” that was approved by EPA in 2015. (80 FR 21183, April 17, 2015). However, Michigan EGLE later revised Michigan's Air Pollution Control Rule in Chapter 336, Part 1, “Definitions” to more appropriately include the definition of used oil in the general air provisions rule at R336.1121(c) to reference “used oil” for all the air rules. (84 FR 8809, April 11, 2019). Michigan EGLE eliminated the redundant “used oil” definition by removing the definition from Part 4.

Clean Air Act (CAA) Section 110(l) prohibits EPA from approving a SIP revision if it would interfere with any applicable requirement concerning attainment, reasonable further progress, or any other CAA requirement. EPA concurs with Michigan EGLE's 110(l) analysis that the revisions to the Part 4 rules improve its clarity and do not interfere with any applicable requirement concerning attainment or any other applicable requirement of the CAA. Further, the revision will not increase any emissions to the atmosphere because they do not impact the applicability of any source or emission limits.

EPA finds the revision to Part 4 acceptable and thus, proposes approval into the Michigan SIP.

III. What action is EPA taking?

EPA is proposing to approve the revisions to Michigan's Part 4 rule into the Michigan SIP, as submitted on August 17, 2022. The administrative changes to Part 4 will not increase any emissions to the atmosphere because they do not impact the applicability of any source or any emission limits.

IV. Incorporation by Reference

In this rule, EPA is proposing to include in a final EPA rule regulatory text that includes incorporation by reference. In accordance with requirements of 1 CFR 51.5, EPA is proposing to incorporate by reference Michigan rules R336.1401a, R336.1401, R336.1402, and R336.1404, effective October 24, 2019, as discussed in Section I of this preamble. EPA has made, and will continue to make, these documents generally available through www.regulations.gov and at the EPA Region 5 Office (please contact the person identified in the FOR FURTHER INFORMATION CONTACT section of this preamble for more information).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Reporting and recordkeeping requirements, and Sulfur oxides.

Dated: January 5, 2023.
Debra Shore,
Regional Administrator, Region 5.

[FR Doc. 2023-00349 Filed 1-12-23; 8:45 am]

BILLING CODE 6560-50-P